DEPARTMENT OF HEALTH AND HUMAN SERVICES

Administration for Children and Families

Submission for Office of Management and Budget Review; Child Care and Development Fund Plan for Tribes for Fiscal Year 2026-2028 (ACF-118A) (Office of Management and Budget #0970-0198)

AGENCY: Office of Child Care, Administration for Children and Families, U.S. Department of Health and Human Services.

ACTION: Request for public comments.

SUMMARY: The Administration for Children and Families (ACF) Office of Child Care (OCC) is requesting a 3-year extension of the form ACF-118A: Child Care and Development Fund for Tribes (Office of Management and Budget (OMB) #0970-0198, expiration April 30,2025) for Federal Fiscal Year (FFY) 2026-2028. There are changes proposed to the form to improve formatting, streamline questions, and reduce burden.

DATES: Comments due December 19, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The Child Care and Development Fund (CCDF) Plan (the Plan) for Tribes is required from each CCDF Lead Agency in accordance with section 658E of the Child Care and Development Block Grant Act of 1990 (CCDBG Act), as amended, CCDBG Act of 2014 (Pub. L. 113-186), and 42 U.S.C 9858. The majority of the Plan in this request is for Tribal Lead Agencies that receive their funding directly from ACF, and does not apply to Tribes that consolidate their funding into approved 102-477 plans. However, all Tribes receiving CCDF funding must complete the triennial child count, which is part of the Plan. The Plan, submitted in the Child Care Automated Reporting System, is required triennially, and remains in effect for 3 years. The Plan provides ACF and the public with a description of, and assurance about the Tribes' child care programs. These Plans are the applications for CCDF funds.

OCC made the following changes based on feedback from Tribes, including several listening sessions conducted over the past year:

• Reduced the burden overall by streamlining and removing questions;

• Revised questions based on the two 2024 CCDF final rules;

• Clarified requirements based on CCDBG Act and regulations;

• Improved skip patterns to reduce burden; and

• Edited the document for plain language.

Respondents: Tribal CCDF Lead Agencies.

Annual Burden Estimates
Instrument | Total number of respondents | Total number of responses per respondent | Average burden hours per response | Total burden hours | Annual burden hours
Triennial Child Count Only (all Tribes) | 264 | 1 | 20 | 5,280 | 1,760
ACF 118A Part I (for all direct funded Tribes) | 214 | 1 | 60 | 12,840 | 4,280
ACF-118A Part II (for direct funded Tribes with small allocations only) | 138 | 1 | 5 | 690 | 230
ACF-118A Part III (for direct funded Tribes with medium and large allocations only) | 76 | 1 | 20 | 1,520 | 507
Estimated Total Burden Over 3 Years and Total Annual Burden Hours |  |  |  | 20,330 | 6,777

Authority: Public Law 113-186 and 42 U.S.C. 9858c.

Mary C. Jones,
ACF/OPRE Certifying Officer.

[FR Doc. 2024-26911 Filed 11-18-24; 8:45 am]

BILLING CODE 4184-87-P